DEPARTMENT OF THE TREASURY

Office of Thrift Supervision

Superior Bank, Birmingham, AL; Notice of Appointment of Receiver

Notice is hereby given that, pursuant to the authority contained in section 5(d)(2) of the Home Owners' Loan Act, The Office of Thrift Supervision has duly appointed the Federal Deposit Insurance Corporation as sole Receiver for Superior Bank, Birmingham, Alabama, (OTS No. 18010) on April 15, 2011.

Dated: April 18, 2011.
By the Office of Thrift Supervision.
Sandra E. Evans,
Federal Register Liaison.

[FR Doc. 2011-9735 Filed 4-22-11; 8:45 am]

BILLING CODE 6720-01-M